DEPARTMENT OF HEALTH AND HUMAN SERVICES

Substance Abuse and Mental Health Services Administration

Agency Information Collection Activities: Proposed Collection; Comment Request

In compliance with section 3506(c)(2)(A) of the Paperwork Reduction Act of 1995 concerning the opportunity for public comment on proposed collections of information, the Substance Abuse and Mental Health Services Administration (SAMHSA) will publish periodic summaries of proposed projects. To request more information on the proposed projects or to obtain a copy of the information collection plans, call the SAMHSA Reports Clearance Officer at (240) 276-0361.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Minority AIDS Initiative: Substance Use Disorder Prevention and Treatment Pilot Program (MAI PT Pilot) Data Collection Instruments

The Substance Abuse and Mental Health Services Administration's (SAMHSA) Center for Substance Abuse Prevention (CSAP) and Center for Substance Abuse Treatment (CSAT) are requesting approval from the Office of Management and Budget (OMB) to monitor the Minority AIDS Initiative: Substance Use Disorder Prevention and Treatment Pilot Program (MAI PT Pilot) through administration of a suite of data collection instruments for grant compliance and programmatic performance monitoring. This package describes the data collection activities and proposed instruments. Two instruments will facilitate grant compliance monitoring, and the third instrument is designed for program performance monitoring.

• The MAI PT Pilot—Organizational Readiness Assessment (MAI-ORA) is a one-time self-assessment tool intended to guide MAI PT Pilot grant recipients to objectively assess their capacity to provide substance use prevention, substance use disorder or co-occurring mental health disorder treatment, and HIV, viral hepatitis, and sexually transmitted infection prevention, screening, testing, and referral services for racial and ethnic individuals vulnerable to these conditions. Results from the MAI-ORA will allow SAMHSA to determine grantee readiness and capacity to implement their grant program, so that SAMHSA can provide additional support, as needed, to ensure grant compliance.

• The MAI PT Pilot—Programmatic Progress Report (MAI-PPR) is a template that grantees will use to report annual progress and will be used to monitor grant compliance.

• The MAI PT Pilot—Online Reporting Tool (MAI-PORT) will be used to conduct programmatic performance monitoring. The MAI-PORT is comprised of two main sections: (1) Annual Targets Report section for MAI PT Pilot grant recipients to report annual federal fiscal year programmatic goals, and (2) Quarterly Performance Report for grantees to report grant activities implemented during each federal fiscal quarter. In developing the MAI-PORT Annual Targets Report and the Quarterly Performance Report, CSAP/CSAT sought the ability to elicit programmatic information that demonstrates impact at the program aggregate level.

Data collected through the MAI-PORT are necessary to ensure SAMHSA and grantees comply with requirements under the Government Performance and Results Act Modernization Act of 2010 (GPRA) that requires regular reporting of performance measures. Additionally, data collected through these tools will provide critical information to SAMHSA's Government Project Officers (GPOs) related to grant oversight, including barriers and facilitators that the grantees have experienced, and an understanding of the technical assistance needed to help grantees implement their programs. The information also provides a mechanism to ensure grantees are meeting the requirements of the grant funding announcement as outlined in their notice of grant award. In addition, the tools reflect CSAP's and CSAT's desire to elicit pertinent program level data that can be used not only to guide future programs and practices, but also to respond to stakeholder, congressional and agency inquiries.

Background and Purpose

According to the Centers for Disease Control and Prevention (CDC), the spread of HIV in the United States is mainly through anal or vaginal sex or by sharing drug-use equipment. Although these risk factors are the same for everyone, due to a range of social, economic, and demographic factors, such as stigma, discrimination, income, education, and geographic region, some racial and ethnic groups are more affected than others. In 2021, CDC reported that although Black/African Americans represented 13 percent of the US population, they accounted for 42 percent (15,305) of the 36,801 new HIV diagnoses; Latino/Hispanic people represent 18.7 percent of the US population but accounted for 29 percent (10,494) of HIV diagnoses (CDC, 2024; United States Census Bureau, 2024).1 2 Between 2017 and 2021, American Indian/Alaska Native (AI/AN), Native Hawaiian and other Pacific Islander populations were the only demographic groups identified by the CDC with an increase in HIV diagnoses in the United States (CDC, 2024).³ Of the 31,800 new HIV infections in 2022, CDC reports that 71% (22,500) were among gay and bisexual men.⁴

¹ 2020 Census Illuminates Racial and Ethnic Composition of the Country.

² HIV Diagnoses.

³ HIV in the United States by Race/Ethnicity: HIV Diagnoses.

⁴ Fast Facts: HIV and Gay and Bisexual Men.

Viral hepatitis also impacts some racial and ethnic groups disproportionally. In 2020, non-Hispanic blacks were 1.4 times as likely to die from viral hepatitis, as compared to non-Hispanic whites (Office of Minority Health, 2022). Non-Hispanic blacks were almost twice as likely to die from hepatitis C as compared to the white population, and while having comparable case rates for hepatitis B in 2020, non-Hispanic blacks were 2.5 times more likely to die from hepatitis B than non-Hispanic whites (Office of Minority Health, 2022). Additionally, the percentage of people aged 12 or older with past year substance use disorder (SUD) differed by race and ethnicity with the highest rates among American Indian/Alaska Native populations (24.0 percent), followed by Black, non-Hispanic populations (18.4 percent) (SAMHSA, 2023).⁵

⁵ Substance Abuse and Mental Health Services Administration. (2023). Strategic Plan: Fiscal Year 2023-2026. Publication No. PEP23-06-00-002. National Mental Health and Substance Use Policy Laboratory. https://www.samhsa.gov/sites/default/files/samhsa-strategic-plan.pdf.

The data clearly show the disproportionate burden faced by minority racial and ethnic groups and that these three issues should not be regarded as separate diseases acting independently, rather as a syndemic. To address this, SAMHSA is taking a syndemic approach to HIV, viral hepatitis, and substance use disorder through the MAI PT Pilot program. The purpose of this program is to provide substance use prevention, SUD treatment, HIV, and viral hepatitis prevention and treatment services for racial and ethnic medically underserved individuals vulnerable to a SUD and/or mental health condition, HIV, viral hepatitis, and other infectious disease (e.g., sexually transmitted infection (STI)). The populations of focus for this program are individuals who are particularly vulnerable to or living with HIV/AIDS, including an emphasis on gay, bisexual, and other men who have sex with men, men who have sex with men and women (MSMW), Black, Latino, and AI/AN men who have sex with men (MSM), Asian and Pacific Islander, Black women, transgender men and women, youth aged 13-24 years, and People who Inject Drugs (PWID).

SAMHSA's MAI PT Pilot is informed by the key strategies and priority jurisdictions outlined in the Ending the HIV Epidemic in the U.S. (EHE) initiative, Viral Hepatitis National Strategic Plan and STI National Strategic Plan. The program also supports the National HIV/AIDS Strategy (NHAS) and 2023-2026 SAMHSA Strategic Plan. Recipients will be expected to take a syndemic approach to SUD, HIV, viral hepatitis, and STI by providing SUD prevention and treatment to racial and ethnic individuals at risk for or living with HIV. MAI PT Pilot is authorized under Sections 509 and 516 of the Public Health Service Act, as amended.

Annualized Data Collection Burden

Table 1 and Table 2 provides an overview of the data collection method, frequency of data collection, and number of data collections for each data collection instruments.

Table 1—Grant Compliance: MAI-ORA and MAI-PPR
Instrument | Data collection method | Frequency of data collection | Maximum number of data collections | Attachment No.
MAI-ORA | Grantees submit into SPARS | Once | Once in Year 1 | 1
MAI-PPR | Grantees submit into eRA | Annually | Annually: 5 times (1 time per year in Years 1-5) | 2

Table 2—Program Performance Monitoring: MAI-PORT
Instrument | Data collection method | Frequency of data collection | Maximum number of data collections | Attachment No.
MAI-PORT | Grantees submit into SPARS | Yearly: Annual Targets Report (ATR) Quarterly: Quarterly Performance Report (QPR) | Yearly: 5 times (1 time per year in Years 1-5) Quarterly: 20 times (4 times per year in Years 1-5) | 3

The estimated time to complete each instrument by year is shown in Tables 3 through 8.

Table 3—Estimates of Annual Burden for MAI PT Data Collection: Year 1
Instrument | Number of respondents | Responses per respondent | Total number of responses | Hours per response | Total burden hours | Average hourly wage ¹ | Total respondent cost
MAI-ORA | 8 | 1 | 8 | 14 | 112 | $48.35 | $5,415.20
MAI-PPR | 8 | 1 | 8 | 3 | 24 | 48.35 | 1,160.40
MAI-PORT/ATR | 8 | 1 | 8 | 1 | 8 | 48.35 | 386.80
MAI-PORT/QPR | 8 | 4 | 32 | 2 | 64 | 48.35 | 3,094.40
Total | 8 | 7 | 56 | 20 | 208 | 48.35 | 10,056.80
¹ Average hourly wage is based on the mean hourly wage for state government managers, as reported in the 2022 Occupational Employment (OES) by the Bureau of Labor Statistics (BLS) found at https://www.bls.gov/oes/current/naics4_999200.htm#11-0000. Accessed on January 15, 2024.

Table 4—Estimates of Annual Burden for MAI PT Data Collection: Year 2
Instrument | Number of respondents | Responses per respondent | Total number of responses | Hours per response | Total burden hours | Average hourly wage ¹ | Total respondent cost
MAI-ORA | 8 | 0 | 0 | 14 | 0 | $48.35 | $0.00
MAI-PPR | 8 | 1 | 8 | 3 | 24 | 48.35 | 1,160.40
MAI-PORT/ATR | 8 | 1 | 8 | 1 | 8 | 48.35 | 386.80
MAI-PORT/QPR | 8 | 4 | 32 | 2 | 64 | 48.35 | 3,094.40
Total | 8 | 6 | 48 | 20 | 96 | 48.35 | 4,641.60
¹ Average hourly wage is based on the mean hourly wage for state government managers, as reported in the 2022 Occupational Employment (OES) by the Bureau of Labor Statistics (BLS) found at https://www.bls.gov/oes/current/naics4_999200.htm#11-0000. Accessed on January 15, 2024.

Table 5—Estimates of Annual Burden for MAI PT Data Collection: Year 3
Instrument | Number of respondents | Responses per respondent | Total number of responses | Hours per response | Total burden hours | Average hourly wage ¹ | Total respondent cost
MAI-ORA | 8 | 0 | 0 | 14 | 0 | $48.35 | $0.00
MAI-PPR | 8 | 1 | 8 | 3 | 24 | 48.35 | 1,160.40
MAI-PORT/ATR | 8 | 1 | 8 | 1 | 8 | 48.35 | 386.80
MAI-PORT/QPR | 8 | 4 | 32 | 2 | 64 | 48.35 | 3,094.40
Total | 8 | 6 | 48 | 20 | 96 | $48.35 | $4,641.60
¹ Average hourly wage is based on the mean hourly wage for state government managers, as reported in the 2022 Occupational Employment (OES) by the Bureau of Labor Statistics (BLS) found at https://www.bls.gov/oes/current/naics4_999200.htm#11-0000. Accessed on January 15, 2024.

Table 6—Estimates of Annual Burden for MAI PT Data Collection: Year 4
Instrument | Number of respondents | Responses per respondent | Total number of responses | Hours per response | Total burden hours | Average hourly wage ¹ | Total respondent cost
MAI-ORA | 8 | 0 | 0 | 14 | 0 | $48.35 | $0.00
MAI-PPR | 8 | 1 | 8 | 3 | 24 | 48.35 | 1,160.40
MAI-PORT/ATR | 8 | 1 | 8 | 1 | 8 | 48.35 | 386.80
MAI-PORT/QPR | 8 | 4 | 32 | 2 | 64 | 48.35 | 3,094.40
Total | 8 | 6 | 48 | 20 | 96 | 48.35 | 4,641.60
¹ Average hourly wage is based on the mean hourly wage for state government managers, as reported in the 2022 Occupational Employment (OES) by the Bureau of Labor Statistics (BLS) found at https://www.bls.gov/oes/current/naics4_999200.htm#11-0000. Accessed on January 15, 2024.

Table 7—Estimates of Annual Burden for MAI PT Data Collection: Year 5
Instrument | Number of respondents | Responses per respondent | Total number of responses | Hours per response | Total burden hours | Average hourly wage ¹ | Total respondent cost
MAI-ORA | 8 | 0 | 0 | 14 | 0 | $48.35 | $0.00
MAI-PPR | 8 | 1 | 8 | 3 | 24 | 48.35 | 1,160.40
MAI-PORT/ATR | 8 | 1 | 8 | 1 | 8 | 48.35 | 386.80
MAI-PORT/QPR | 8 | 4 | 32 | 2 | 64 | 48.35 | 3,094.40
Total | 8 | 6 | 48 | 20 | 96 | 48.35 | 4,641.60
¹ Average hourly wage is based on the mean hourly wage for state government managers, as reported in the 2022 Occupational Employment (OES) by the Bureau of Labor Statistics (BLS) found at https://www.bls.gov/oes/current/naics4_999200.htm#11-0000. Accessed on January 15, 2024.

Table 8—Estimates of Annual Burden for MAI PT Data Collection: All Years
Instrument | Number of respondents | Responses per respondent | Total number of responses | Hours per response | Total burden hours | Average hourly wage ¹ | Total respondent cost
MAI-ORA | 8 | 1 | 8 | 14 | 112 | $48.35 | $5,415.20
MAI-PPR | 8 | 5 | 40 | 3 | 120 | 48.35 | 5,802.00
MAI-PORT/ATR | 8 | 5 | 40 | 1 | 40 | 48.35 | 1,934.00
MAI-PORT/QPR | 8 | 20 | 160 | 2 | 320 | 48.35 | 15,472.00
Total | 8 | 31 | 248 | 20 | 592 | 48.35 | 28,623.20
¹ Average hourly wage is based on the mean hourly wage for state government managers, as reported in the 2022 Occupational Employment (OES) by the Bureau of Labor Statistics (BLS) found at https://www.bls.gov/oes/current/naics4_999200.htm#11-0000. Accessed on January 15, 2024.

No comments were received during the 60-Day Federal Register comment period. However, the instruments have been revised to reflect comments received from the cognitive testing. Changes include:

MAI PT Pilot Organizational Readiness Assessment (MAI-ORA)

• Added/revised instructions throughout to clarify meaning.

• Added list of definitions in appendix.

• Combined:

○ service delivery and leveraging resources sections and

○ four narrative sections and moved to the end of the instrument.

• Simplified/reformatted tables to improve flow and reduce grantee burden.

• Revised measures to clarify meaning, eliminate compound constructs, and reduce social desirability bias.

• Renumbered measures.

MAI PT Pilot—Programmatic Progress Report (MAI-PPR)

• Corrected typographical error in Public Burden Statement: Changed annual burden estimate from 24 hours to 3 hours.

• Added:

○ general instructions in the beginning,

○ instructions in Section 1 table, and

○ additional instructions and examples throughout.

• Omitted:

○ bottom three signature rows in Section 1 table and

○ budget section.

MAI PT Pilot Online Reporting Tool (MAI-PORT)

• Added/updated instructions for clarification.

• Added:

○ skip patterns to reduce grantee burden,

○ two questions regarding content focus and level of implementation of planned prevention strategy, and

○ items to QPR regarding details of inactive strategies.

• Updated:

○ Race/ethnicity measures in ATR and QPR to be compliant with OMB's Statistical Policy Directive No. 15.

○ SOGI measures in ATR and QPR.

○ Appendix A: Added/revised definitions and

○ Appendix B: Revised title from “list of EBPs” to “List of Prevention Strategies,” and added additional prevention strategies.

• Standardized language (e.g., direct/individual-based, indirect/population based, unduplicated count).

• Reordered reached/served items of ATR and QPR so that “reached” is listed first.

• Eliminated demographics for “reached” in ATR and QPR.

• Grantees are now asked to report whether interventions are EBPP in ATR (added new status “community-defined evidence practice” and “other” criteria response options).

Written comments and recommendations concerning the proposed information collection should be sent by December 23, 2024 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Krishna Palipudi,
Social Science Analyst.

[FR Doc. 2024-27294 Filed 11-20-24; 8:45 am]

BILLING CODE 4162-20-P